DEPARTMENT OF ENERGY

Federal Energy Regulatory Commission

Notice of Scoping Meeting, Site Visit, and Soliciting Scoping Comments for an Applicant Prepared Environmental Assessment Using the Alternative Licensing Process

January 26, 2001.

a. Type of Application: Alternative Licensing Process.

b. Project No.: FERC No. 459.

c. Applicant: Union Electric Company (d/b/a Ameren/UE).

d. Name of Project: Osage Project.

e. Location: On the Osage River, in Benton, Camden, Miller and Morgan Counties, central Missouri. The project occupies federal lands.

f. Filed Pursuant to: Federal Power Act, 16 U.S.C. 791(a)-825(r).

g. Applicant Contact: Jerry Hogg, Ameren/UE, 617 River Road, Eldon, MO 65026, (573) 365-9315; jhogg@ameren.com.

h. FERC Contact: Any questions on this notice should be addressed to Allan Creamer at (202) 219-0365, or at allan.creamer.@ferc.fed.us.

i. Deadline for Comments: March 23, 2001.

All documents (original and eight copies) should be filed with: David P. Boergers, Secretary, Federal Energy Regulatory Commission, 888 First Street, NE., Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency.

Protests, comments on filings, comments on environmental assessments and environmental impact statements, and reply comments may be filed electronically via the Internet in lieu of paper. See 18 CFR 385.2001(a)(1)(iii) and the instructions on the Commission's web site at http://www.ferc.fed.us/efi/doorbell.htm.

j. Description of the Project: The peaking project consists of an 2,583-foot-long, 148-foot-high concrete dam; a 92-mile-long, 55,000-acre impoundment at a full pool elevation of 660 feet mean sea level; a powerhouse containing eight main and two in-house generating units, having a total installed capacity of 176,200 kilowatts; and appurtenant facilities. The project generates approximately 675,000 megawatt-hours of electricity annually.

k. Scoping Process: Ameren/UE intends to utilize the Federal Energy Regulatory Commission's (Commission) alternative licensing process (ALP). Under the ALP, Ameren/UE will prepare an Applicant Prepared Environmental Assessment (APEA) and license application for the Osage Hydroelectric Project. Ameren/UE expects to file with the Commission, the APEA and the license application for the Osage Hydroelectric Project by February 28, 2004.

The purpose of this notice is to inform you of the opportunity to participate in the upcoming scoping meetings identified below, and to solicit your scoping comments.

Scoping Meetings

Ameren/UE and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting

Wednesday, February 21, 2001, 1:30 p.m.-3:30 p.m., Marriott's Tan-Tar-A Resort, Suite G, Building D, State Road KK, Osage Beach, MO 65065

Evening Meeting

Wednesday, February 21, 2001, 7 p.m.-9 p.m., Marriott's Tan-Tar-A Resort, Suite G, Building D, State Road KK, Osage Beach, MO 65065

To help focus discussions, Scoping Document 1 (SD1), which outlines the subject areas to be addressed in the APEA, was mailed to the parties on the mailing list on January 12, 2001. Copies of the SD1 also will be available at the scoping meeting. Based will include a revised list of issues, based on the scoping sessions.

Site Visit

The Applicant (Ameren/UE) and FERC will conduct a project site visit beginning at 10 a.m. on February 22, 2001. All interested individuals, organizations, and agencies are invited to attend. All participants should meet at the Osage Power Plant in the town of Lakeside, Missouri. All participants are responsible for their own transportation to the site. Anyone with questions about the site visit should contact Mr. Jerry Hogg of Ameren/UE at 573-365-9315.

Objectives

At the scoping meetings, the staff will: (1) summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the scoping meetings and site visit, and to assist Ameren/UE in defining and clarifying the issues to be addressed in the APES

David P. Boergers,
Secretary.

[FR Doc. 01-2723 Filed 1-31-01; 8:45 am]

BILLING CODE 6717-01-M